DEPARTMENT OF THE INTERIOR

Bureau of Land Management

[MT-020-1320-EL, MTM 94378]

Notice of Availability of the Spring Creek Coal Company's Lease by Application MTM 94378 Environmental Assessment, Federal Coal Notice of Public Hearing, and Request for Environmental Assessment, Maximum Economic Recovery, and Fair Market Value Comments

AGENCY: Bureau of Land Management, Interior.

ACTION: Notice of availability.

SUMMARY: In accordance with 43 Code of Federal Regulations (CFR) 3425.4, the Bureau of Land Management, Miles City Field Office, Miles City, Montana, hereby gives notice that an Environmental Assessment (EA) is available and a public hearing will be held to lease Federal coal. The EA analyzes and discloses direct, indirect, and cumulative environmental impacts of issuing competitively a Federal coal lease for 1,207.5 acres in the Bighorn County, Montana. The purpose of the public hearing is to solicit comments from the public on (1) The proposal to issue a Federal coal lease; (2) the proposed competitive lease sale; (3) the Fair Market Value (FMV) of the Federal coal; and (4) Maximum Economic Recovery (MER) of the Federal coal included in the tracts.

DATES: Written comments must be postmarked by December 27, 2006, and received by the BLM Miles City Field Office (See ADDRESSES). The public hearing will be held on December 14, 2006, at 10:30 a.m. requesting comments on the EA, FMV, and MER in accordance with 43 CFR parts 3422 and 3425.

ADDRESSES: The public hearing will occur at the BLM Montana State Office (5001 Southgate Drive, Billings, Montana, in the 920 Conference Room). Written comments or resource information should be addressed to or hand delivered to the BLM Miles City Field Office, Attn: Dan Benoit, 111 Garryowen Road, Miles City, Montana 59301. Comments or questions may also be sent by facsimile to the attention of Dan Benoit at (406) 232-7004; or sent electronically to: MT_Miles_City_FO@BLM.gov. Please put Spring Creek LBA Tract/Dan Benoit in the subject line.

FOR FURTHER INFORMATION CONTACT: Dan Benoit, geologist, or Rebecca Spurgin, coal coordinator, at (406) 233-3646 or (406) 896-5080, respectively.

SUPPLEMENTARY INFORMATION: Members of the public may examine documents pertinent to this proposal by visiting the Miles City Field Office during its business hours (7:45 a.m. to 4:30 p.m.), Monday through Friday, except holidays. Also, copies of the EA are available for inspection or provided upon request. Spring Creek Coal Company (SCCC) filed an application to lease Federal coal on the Lease by Application (LBA) which is adjacent to the Spring Creek Mine on March 7, 2005. The Powder River Regional Coal Team reviewed this lease application at a public meeting held on April 27, 2005, in Gillette, Wyoming, and recommended that BLM process it. The application includes approximately 121.4 million tons of recoverable Federal coal with an average coal quality of: 9,350 BTU/lb., 0.34% sulfur, and 3.8% ash. The Federal LBA consists of the coal found underlying the following lands in Big Horn County, Montana:

T. 8 S., R. 39 E., P.M.M.

Sec. 13: SW¼NW¼NW¼, SW¼NW¼, SW¼SE¼NW¼, N½SW¼, N½SW¼SW¼, N½SE¼SW¼SW¼, SE¼SE¼SW¼SW¼, SE¼SW¼, NW¼NW¼SE¼, S½NW¼SE¼, N½SW¼SE¼, SW¼SW¼SE¼; Sec. 14: NW¼NE¼NE¼, S½NE¼NE¼, NW¼NE¼, S½NE¼, SE¼NE¼NW¼, NE¼SW¼NW¼, N½SE¼NW¼, N½NE¼SE¼, N½S½NE¼SE¼, S½SE¼NE¼SE¼, NE¼NE¼SE¼SE¼; Sec. 15: NW¼SW¼SE¼, S½SW¼SE¼; Sec. 22: NE¼NE¼, N½NW¼NE¼, SE¼NW¼NE¼, NE¼SE¼NE¼, NE¼NE¼NW¼; Sec. 23: SW¼SW¼NW¼NE¼, S½N½NW¼, S½NW¼; Sec. 24: N½NE¼NW¼; Sec. 25: SW¼SW¼; Sec. 26: SW¼NE¼NE¼SW¼, W½NW¼NE¼SW¼, SE¼NW¼NE¼SW¼, S½NE¼SW¼, NW¼SW¼, N½SE¼SW¼, S½NW¼SE¼, S½SE¼; Sec. 27: SW¼NW¼SE¼NE¼, S½SE¼NE¼, NW¼NE¼SW¼NE¼, S½NE¼SW¼NE¼, W½SW¼NE¼, SE¼SW¼NE¼, E1/2SE¼NW¼, N½NE¼SE¼, SE¼NE¼SE¼, NE¼NW¼SE¼.

T. 8 S., R. 40 E., P.M.M.

Sec. 30: S½NW¼SE¼, S½SE¼.

Containing 1,207.50 acres more or less.

The surface estate of W½NE¼SE¼ and SE¼NE¼SE¼ of Section 13, and the NE¼SE¼NE¼ of Section 22 and the SW¼NW¼ of Section 23, T. 8 S., R. 39 E., containing 80.0 acres, more or less, is owned by the Federal government and administered by the BLM. The remainder of the surface estate is privately owned. Approximately 322 acres of the tract are unsuitable for mining due to the presence of no-coal zones and structures. These lands are included in the tract to allow recovery of all mineable coal outside of the rail line and to comply with the Federal coal leasing regulations.

SCCC proposes to mine the tract as a part of the Spring Creek Mine. The Federal coal included in the LBA Tract would extend the life of the Spring Creek Mine about eight years based upon an average annual production rate of 15 million tons.

The Spring Creek Mine is operating under approved mining permits from the Montana Department of Environmental Quality. The Office of Surface Mining Reclamation and Enforcement (OSM) is a cooperating agency in the preparation of the EA. If the LBA Tract is leased to the applicant, the new lease must be incorporated into the existing mining and reclamation plan for the adjacent mine and the Secretary of the Interior must approve the revision to the Mineral Leasing Act (MLA) mining plan before the Federal coal in the tract can be mined. OSM is the Federal agency that would be responsible for recommending approval, approval with conditions, or disapproval of the revised MLA mining plan to the Office of the Secretary of the Interior, if this tract is leased.

The BLM will provide interested parties the opportunity to submit comments or relevant information or both. The EA consists of an analysis of environmental impacts that could result from leasing Federal coal and the alternatives. Issues that have been raised during processing previous EAs in the Montana PRB include: Potential impacts to cultural resource sites; potential impacts to big game herds; potential impacts to sage grouse and raptors; the need to consider the cumulative impacts of coal leasing decisions combined with other existing and proposed development in the Montana PRB; and potential site specific and cumulative impacts on air and water quality.

Comments on the FMV, and MER should address, but are not limited to, the following factors:

1. The method of mining to be employed in order to obtain MER;

2. The method of determining FMV for the coal to be offered;

3. The quality and quantity of the coal resource;

4. If this resource is likely to be mined as part of an existing mine;

5. The price that the mined coal would bring when sold;

6. Costs, including mining and reclamation, of producing the coal and the times of production and impacts the leasehold may have on the area;

7. Depreciation and other tax counting factors;

8. The percentage rate at which anticipated income streams should be discounted, either in the absence of inflation or with inflation, in which case the anticipated rate of inflation should be given;

9. Any comparable sales data of similar coal lands; and

10. Restrictions to mining which may affect coal recovery.

The values given above may or may not change as a result of comments received from the public and changes in market conditions between now and when final economic evaluations are completed. As provided by 43 CFR 3422.1(a), proprietary data marked as confidential may be provided in response to this solicitation of public comments. Data so marked shall be treated in accordance with the laws and regulations governing the confidentiality of such information. A copy of the comments submitted by the public on FMV and MER, except those portions identified as proprietary and meeting exemptions stated in the Freedom of Information Act (FOIA), will be available for public inspection at the Bureau of Land Management office noted above.

If you wish to withhold your name or address from public review or from disclosure under the FOIA, you must state this prominently at the beginning of your written comments. Such requests will be honored to the extent allowed by the FOIA.

All submissions from organizations, businesses and individuals identifying themselves as representatives or officials of organizations or businesses will be available for public inspection in its entirety.

Stephen J. Van Matre,
Acting Branch Chief of Solid Minerals, Montana State Office.

[FR Doc. E6-20546 Filed 12-4-06; 8:45 am]

BILLING CODE 4310-GJ-P